DEPARTMENT OF COMMERCE

Submission for OMB Review

The Department of Commerce will submit to the Office of Management and Budget (OMB) for clearance the following proposal for collection of information under the provisions of the Paperwork Reduction Act (44 U.S.C. Chapter 35).

Agency: Bureau of Industry and Security (BIS).

Title: Commercial Encryption Items under Commerce Jurisdiction.

OMB Control Number: 0694-0104.

Form Number(s): N/A.

Type of Request: Regular submission (Extension).

Burden Hours: 8,090.

Number of Respondents: 940.

Average Hours per Response: 10 minutes to 20 hours.

Needs and Uses: The collection is necessary to provide technical and end user information for encryption items that are eligible for export under license exception or under licenses that authorize exports to various destinations. This collection provides technical information for programs related to encrypted communications.

Affected Public: Business or other for-profit organizations.

Frequency: On occasion.

Respondent's Obligation: Required to obtain or retain benefits.

OMB Desk Officer: Jasmeet Seehra, (202) 395-3123.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to Jasmeet Seehra, OMB Desk Officer, via the Internet at Jasmeet_K._Seehra@omb.eop.gov, or fax to (202) 395-5167.

Dated: October 7, 2009.
Gwellnar Banks,
Management Analyst, Office of the Chief Information Officer.

[FR Doc. E9-24501 Filed 10-9-09; 8:45 am]

BILLING CODE 3510-33-P